DEPARTMENT OF LABOR

Employment and Training Administration

[NAFTA-4617]

NAPCO Button, Inc., Coppell, TX; Notice of Termination of Investigation

Pursuant to Title V of the North American Free Trade Agreement Implementation Act (P.L. 103-118) concerning transitional adjustment assistance, hereinafter called NAFTA-TAA and in accordance with section 250(a), Subchapter D, Chapter 2, Title II, of the Trade Act of 1974, as amended (19 USC 2331), an investigation was initiated on March 9, 2001, in response to a petition filed on behalf of workers at NAPCO Button, Inc., Coppell, Texas. Workers produced dyed buttons.

The petitioner has requested that the petition be withdrawn. Consequently, further investigation in this case would serve no purpose, and the investigation has been terminated.

Signed in Washington, DC this 16th day of May, 2001.
Linda G. Poole,
Certifying Officer, Division of Trade Adjustment Assistance.

[FR Doc. 01-13224 Filed 5-24-01; 8:45 am]

BILLING CODE 4510-30-M